DEPARTMENT OF COMMERCE

National Oceanic and Atmospheric Administration

RTID 0648-XF282

Atlantic Highly Migratory Species; Exempted Fishing, Scientific Research, Display, and Shark Research Fishery Permits; Letters of Acknowledgement

AGENCY: National Marine Fisheries Service (NMFS), National Oceanic and Atmospheric Administration (NOAA), Commerce.

ACTION: Notice of intent; request for comments; request for applications.

SUMMARY: NMFS announces its intent to issue exempted fishing permits (EFPs), scientific research permits (SRPs), display permits, shark research fishery permits, and letters of acknowledgement (LOAs) for Atlantic highly migratory species (HMS) in 2026. NMFS also requests applications for the 2026 shark research fishery. EFPs, SRPs, display permits, and shark research fishery permits exempt permit holders from specific portions of the regulations for the purposes of scientific research, data collection, and public display, among other things. The shark research fishery provides fishery-dependent and biological data collection to support stock assessments and other NMFS research and management objectives. LOAs acknowledge that researchers are conducting scientific research activities on board a scientific research vessel. Generally, exempted fishing and related permits are valid from the date of issuance through the end of the calendar year for which they are issued, unless otherwise specified in the permit, subject to the terms and conditions of individual permits.

DATES: Submit comments on the issuance of exempted fishing and related permits on or before January 14, 2026. Submit applications for the 2026 shark research fishery on or before January 14, 2026.

ADDRESSES: You may submit comments on the issuance of exempted fishing and related permits by email to nmfs.hms.epfs@noaa.gov. You may submit shark research fishery applications by email to nmfs.research.fishery@noaa.gov.

FOR FURTHER INFORMATION CONTACT: For information regarding the issuance of exempted fishing and related permits, contact Ann Williamson, ann.williamson@noaa.gov, at 301-427-8503. For information regarding the shark research fishery, contact Karyl Brewster-Geisz, karyl.brewster-geisz@noaa.gov, or Delisse Ortiz, delisse.ortiz@noaa.gov, at 301-427-8503.

SUPPLEMENTARY INFORMATION: HMS fisheries (swordfish, sharks, tunas, and billfish) are managed under the 2006 Consolidated HMS Fishery Management Plan (FMP) and its amendments pursuant to the authority of the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas. HMS implementing regulations are at 50 CFR part 635. The regulations specific to HMS exempted fishing and related permits can be found at § 635.32. The regulations specific to the shark research fishery can be found at §§ 635.24(a), 635.27(b) and 635.32(f).

Exempted Fishing and Related Permits

NMFS issues exempted fishing and related permits in cases where HMS regulations (e.g., fishing seasons, prohibited species, authorized gear, closed areas, minimum sizes) may otherwise prohibit scientists and other interested parties from conducting scientific research; acquiring information and data related to HMS and fishing for HMS; enhancing safety at sea; collecting HMS for public education or display; investigating bycatch, economic discards, or regulatory discards in HMS fisheries; or conducting other fishing activities that NMFS has an interest in permitting or acknowledging. Consistent with §§ 600.745 and 635.32, a NMFS Regional Administrator or Director may authorize, for limited testing, public display, data collection, exploratory fishing, compensation fishing, conservation engineering, health and safety surveys, environmental cleanup, and/or hazard removal purposes, the target or incidental harvest of species managed under an FMP or fishery regulations that would otherwise be prohibited. These permits exempt permit holders from the specific portions of the regulations that may otherwise be prohibited. Collection of HMS under exempted fishing and related permits represents a small portion of the overall fishing mortality for HMS, and NMFS counts this mortality against the relevant quota, as appropriate and applicable. The terms and conditions of individual permits are unique; however, all permits include reporting requirements, limit the number and/or species of HMS to be collected (if appropriate), and only authorize collection and/or other research activities in Federal waters of the Atlantic Ocean, Gulf of America, and Caribbean Sea (for Atlantic tunas, we may authorize the activities all the way to shore).

The Magnuson-Stevens Act exempts any scientific research activity conducted by a scientific research vessel from the definition of “fishing.” NMFS issues LOAs acknowledging such bona fide research activities involving species that are directly regulated only under the Magnuson-Stevens Act (e.g., most shark species) and not under ATCA. NMFS generally does not consider recreational or commercial vessels to be bona fide research vessels. However, if the researcher contracts a vessel only to conduct research and not participate in any commercial or recreational fishing activities during that research, NMFS may consider those vessels as bona fide research platforms while conducting the specified research. For example, in the past, NMFS has determined that commercial pelagic longline fishing vessels assisting with shark population surveys may be considered “bona fide research vessels” while engaged only in the specified research. For such activities, NMFS reviews the scientific research plans and may issue an LOA acknowledging that the proposed activity is scientific research for purposes of the Magnuson-Stevens Act.

While scientific research is not defined as “fishing” subject to the Magnuson-Stevens Act, scientific research is not exempt from regulation under ATCA. Therefore, NMFS issues SRPs that authorize researchers to conduct scientific research related to HMS from bona fide research vessels for species managed directly under this statute (i.e., swordfish, tunas, and billfish). One example of research conducted under SRPs would be swordfish, tunas, and billfish scientific surveys conducted from NOAA research vessels.

NMFS issues EFPs for activities conducted from commercial or recreational fishing vessels. Examples of activities conducted under EFPs include collection of young-of-the-year bluefin tuna for genetic research from recreational fishing vessels; conducting billfish larval tows to determine billfish habitat use, life history, and population structure from private vessels; and tagging sharks caught on commercial or recreational fishing gear to determine post-release mortality rates from commercial or recreational fishing vessels.

NMFS issues display permits for the collection of HMS for public display. Collection of HMS for public display in aquaria often involves collection when the commercial fishing seasons are closed, collection of otherwise prohibited species (e.g., sand tiger sharks), and collection of fish below the regulatory minimum size. Not all HMS can be collected for public display. NMFS published the final rule for Amendment 2 to the HMS FMP (73 FR 35778, June 24, 2008; corrected 73 FR 40658, July 15, 2008) that, among other things, prohibited the collection of dusky sharks for public display. In 2022, NMFS published a final rule (87 FR 39373, July 1, 2022) that, among other things, prohibited the collection of shortfin mako sharks for public display.

Most exempted fishing and related permits described in this annual notice relate to scientific sampling and tagging of HMS within existing quotas, and the impacts of these activities were previously analyzed in various environmental assessments and environmental impact statements for HMS management. NMFS' intent generally is to issue these permits without additional opportunity for public comment beyond what is provided in this notice. However, occasionally, NMFS receives applications which may warrant further consideration, such as those for unanticipated research activities, for research that is outside the scope of general scientific sampling and tagging of HMS, or for research that is particularly controversial. In those instances, NMFS will provide additional opportunity for public comment, consistent with the regulations at § 600.745.

On May 10, 2024, the Environmental Protection Agency published a notice announcing the availability of the Final Environmental Impact Statement for Amendment 15 to the HMS FMP (89 FR 40481). In Amendment 15, NMFS prefers an alternative that would allow for cooperative research via an EFP within the various areas that are currently closed to pelagic longline fishing. NMFS would use the data collected to help assess the effectiveness of the pelagic longline closed areas. At this time, NMFS has not yet published any final rule for Amendment 15. NMFS is not aware of any researchers who plan to conduct research specific to the objectives in Amendment 15 in the closed areas in 2026. If after the publication of any final rule, NMFS receives such applications, NMFS may consider providing additional opportunity for public comment, dependent upon the particulars of the scientific research plan submitted, consistent with the regulations at § 600.745.

Additionally, this notice invites comments on the shark research fishery, which NMFS implemented in 2008 through Amendment 2 to the HMS FMP. In short, the shark research fishery is a program where interested commercial shark fishermen voluntarily apply for the opportunity to participate in shark research; qualified applicants who are selected to participate are permitted to harvest sandbar sharks commercially under specific terms and conditions (described below). NMFS conducts this research fishery under the auspices of the HMS EFP Program and issues specific shark research fishery EFPs to selected participants. Shark research fishery participants assist NMFS in collecting valuable shark life history and other scientific data required in shark stock assessments. Since NMFS established the shark research fishery, the research fishery has allowed for:

• Fishery-dependent data collection for current and future stock assessments;

• Cooperative research to meet NMFS' ongoing research objectives;

• Collection of updated life-history information used in the sandbar shark (and other species) stock assessments;

• Data collection on habitat preferences that might help reduce fishery interactions through bycatch mitigation;

• Evaluation of the utility of the mid-Atlantic closed area on the recovery of dusky sharks;

• Collection of hook-timer and pop-up satellite archival tag information to determine at-vessel and post-release mortality of dusky sharks; and

• Collection of sharks to update the weight conversion factor from dressed weight to whole weight.

Shark research fishery participants are subject to 100-percent observer coverage. In recent years, NMFS has required shark research fishery participants to retain all non-prohibited shark species dead at haulback and NMFS has counted that mortality against the appropriate quotas of the shark research fishery participant. Additionally, in recent years, all shark research fishery participants were limited to a very small number of dusky shark mortalities on a regional basis. Once the designated number of dusky shark mortalities occurs in a specific region, certain terms and conditions are applied (e.g., soak time limits). See the Shark Research Fishery section for information on the 2026 shark research fishery objectives and the specific terms and conditions expected for the 2026 shark research fishery permits. NMFS requests public comment regarding NMFS' intent to issue shark research fishery permits in 2026 during the comment period of this notice.

Table 1 summarizes the number of specimens authorized under EFPs, SRPs, display permits, and LOAs and the total number of specimens collected in 2024. Table 2 summarizes the number of specimens authorized under EFPs, SRPs, display permits, and LOAs in 2025. The total number of specimens collected in 2025 will be available when NMFS receives all 2025 interim and annual reports.

In all cases, NMFS counts mortalities associated with EFPs, SRPs, or display permits (except for larvae) against the appropriate quota. In 2024, NMFS issued a total of 47 EFPs, SRPs, display permits, and LOAs for the collection, sampling, and/or tagging of HMS and a total of 3 shark research fishery permits. As of November 21, 2025, NMFS has issued a total of 44 EFPs, SRPs, display permits, and LOAs and a total of 3 shark research fishery permits for the year.

Table 1—Summary of HMS Exempted Fishing Permits, Scientific Research Permits, Display Permits, and Letters of Acknowledgement Issued in 2024
Permit type | Permits issued | Authorized fish (numbers) ¹: Swordfish | Authorized fish (numbers) ¹: Sharks | Authorized fish (numbers) ¹: Tunas | Authorized fish (numbers) ¹: Billfish | Fish kept or discarded dead (numbers): Swordfish | Fish kept or discarded dead (numbers): Sharks | Fish kept or discarded dead (numbers): Tunas | Fish kept or discarded dead (numbers): Billfish
EFP | 10 | 0 | 24 | 190 | 0 | 0 | 0 | 28 | 0
SRP | 7 | 5 | 1,525 | 50 | 0 | 0 | 96 | 2 | 0
Display | 4 | 0 | 259 | 18 | 0 | 0 | 23 | 0 | 0
LOA | 26 | N/A | ¹ N/A | N/A | N/A | N/A | 266 | N/A | N/A
Note: This table does not include shark research fishery permits.
¹ NMFS issued some EFPs, SRPs, and LOAs for the purposes of tagging and the opportunistic sampling of HMS and were not expected to result in large amounts of mortality, thus no limits on sampling were set.

Table 2—Summary of HMS Exempted Fishing Permits, Scientific Research Permits, Display Permits, and Letters of Acknowledgement Issued in 2025
Permit type | Permits issued | Authorized fish (numbers) ¹: Swordfish | Authorized fish (numbers) ¹: Sharks | Authorized fish (numbers) ¹: Tunas | Authorized fish (numbers) ¹: Billfish
EFP | 11 | 0 | 24 | 260 | 0
SRP | 8 | 25 | 135 | 135 | 120
Display | 5 | 0 | 250 | 18 | 0
LOA | 20 | N/A | ¹ N/A | N/A | N/A
Note: This table does not include shark research fishery permits.
¹ NMFS issued some EFPs, SRPs, and LOAs for the purposes of tagging and the opportunistic sampling of HMS and were not expected to result in large amounts of mortality, thus no limits on sampling were set. NMFS will account for any mortality that may occur throughout 2025 under the appropriate HMS research and display quota.

NMFS does not currently anticipate any significant environmental impacts from the issuance of exempted fishing and related permits, consistent with the assessment of such activities as identified in Categorical Exclusion B12 of the Companion Manual for NOAA Administrative Order 216-6A or within the environmental impacts analyses in existing HMS actions. Existing actions include the 1999 FMP, HMS FMP and its amendments, Amendment 2 to the HMS FMP, the Environmental Assessment for the 2012 Swordfish Specifications, the Environmental Assessment for the 2022 Final Bluefin Tuna Quota and Atlantic Tuna Fisheries Management Measures, and the 2022 Zero Atlantic Shortfin Mako Shark Retention Limit Final Rule.

Final decisions on the issuance of any exempted fishing or related permits will depend on:

• The submission of all required information about the proposed activities;

• NMFS' review of public comments received on this notice;

• The applicant's reporting history on past permits;

• If vessels or applicants were issued any prior violations of marine resource laws administered by NOAA;

• Consistency with relevant National Environmental Policy Act analyses; and

• Any consultations with appropriate Regional Fishery Management Councils, states, or Federal agencies.

Shark Research Fishery

Generally, the shark research fishery permits are valid only for the calendar year for which they are issued. The shark research fishery allows selected commercial fishermen the opportunity to earn revenue from selling additional sharks, including sandbar sharks. Only shark research fishery participants are authorized to land sandbar sharks subject to the sandbar quota available each year. The base annual commercial quotas for sandbar sharks is 90.7 metric tons (mt) dressed weight (dw) and for research large coastal sharks (LCS) is 50 mt dw per year, although the quotas may be reduced in the event of overharvests. The selected shark research fishery participants will also be allowed to land other shark species consistent with any restrictions established on their shark research fishery permit. In 2026, NMFS may, consistent with the objectives of the shark research fishery, consider modifying the terms and conditions of the shark research fishery permits to allow for the limited harvest of some prohibited shark species (e.g., bignose sharks) to collect data needed for stock assessments and other scientific purposes.

NMFS requires 100-percent observer coverage on shark research fishery trips. The specific 2026 trip limits and number of trips per month will depend on the availability of funding, number of selected vessels, the availability of observers, the available quota, and the objectives of the research fishery, and will be included in the permit terms at time of issuance. The number of shark research fishery participants varies each year. In 2025, three fishermen participated in the shark research fishery. From 2008 through 2025, an average of 6 fishermen participated in the shark research fishery each year with a range from 3 to 11 fishermen. Overall, the timing and number of trips participants take varies year-to-year based on seasonal availability of certain species and available quota. Specifically, the scientific and research needs of the Agency and the number of NMFS-approved observers available limits the number of trips taken per month. In the last few years, participating vessels on average have been able to take one trip per month. Participants may also be limited in the amount of gear they can deploy on a given set (e.g., number of hooks and sets, soak times, length of longline). These limits have changed both between years and during the year depending on research goals and bycatch limits.

In 2025, NMFS split 90 percent of the sandbar and LCS research fishery quotas equally among selected participants, with 16.3 mt dw (35,935 pounds (lb) dw) of sandbar shark research fishery quota and 9.0 mt dw (19,841 lb dw) of other LCS research fishery quota available to each vessel. NMFS held the remaining quota in reserve to ensure that shark research fishery participants did not exceed the overall sandbar and LCS research fishery quotas. NMFS may use this process again for the 2026 research fishery quotas or may consider other methods of distributing the available quotas. Shark research fishery participants will be notified of their sandbar and LCS research fishery quotas upon issuance of their shark research fishery permits.

In 2025, NMFS continued to implement a regional dusky shark bycatch limit, which was first established in the shark research fishery in 2013, applicable to four regions across the Gulf of America and Atlantic. Per the terms and conditions in the shark research fishery permit, under this limit, when shark research fishery participants bring four or more dusky sharks to the vessel dead in a region, the shark research fishery participants in that region are prohibited from soaking their gear for longer than 3 hours. If, after the change in soak time, three additional dusky shark interactions (alive or dead) are observed, shark research fishery participants are prohibited from making a trip in that region for the remainder of the year, unless otherwise permitted by NMFS. NMFS established slightly different measures for shark research fishery participants in the mid-Atlantic shark closed area to allow NMFS observers to place satellite archival tags on dusky sharks and collect other scientific information on dusky sharks while also minimizing any dusky shark mortality. NMFS expects to continue to implement the dusky shark bycatch limit in 2026.

Also in 2025, NMFS provided monetary compensation to participants who had electronic monitoring sensors installed and operating on their vessels for some of their shark research fishery trips. Similarly, NMFS may provide participants monetary compensation in 2026 for some fishing trips, dependent on the fulfillment of any relevant requirements in the terms and conditions of the permit.

To be considered for selection to participate in the shark research fishery, commercial shark fishermen must submit a completed shark research fishery permit application by the deadline noted above (see DATES) showing that the vessel and owner(s) meet the specific criteria outlined below.

Shark Research Fishery Objectives

As established in Amendment 2 to the HMS FMP, each year, a shark board, which is comprised of NMFS representatives from the Southeast Fisheries Science Center (SEFSC) Panama City Laboratory, the Southeast Regional Office Protected Resources Division, and the HMS Management Division, develops the shark research fishery objectives for that year. The 2026 objectives are based on various documents, including the May 2020 Biological Opinion on the Operation of the Atlantic Highly Migratory Species Fisheries Excluding Pelagic Longline and stock assessments for various Atlantic shark species (stock assessments can be found at https://sedarweb.org/).

The 2026 objectives are:

• Collect biological data (e.g., reproductive, length, sex, and age data) from sandbar and other sharks and other data (e.g., harvest levels) throughout the calendar year for species-specific stock assessments and fishery management needs;

• Monitor the size distribution of sandbar sharks and other species captured in the fishery;

• Collect information regarding depredation events;

• Continue ongoing shark tagging programs for identification of migration corridors and stock structure using dart and/or spaghetti tags;

• Maintain time-series of abundance from previously derived indices for the shark bottom longline observer program;

• Acquire fin-clip samples of all shark and other species for genetic analysis;

• Attach satellite archival tags to endangered smalltooth sawfish to provide information on critical habitat, preferred depth, and post-release mortality, consistent with the requirements listed in the take permit issued under section 10 of the Endangered Species Act to the SEFSC Observer Program;

• Attach satellite archival tags to prohibited dusky and other sharks (see table 1 of appendix A to part 635), as needed, to provide information on daily and seasonal movement patterns, and preferred depth;

• Evaluate the effects of controlled gear experiments to determine the effects of potential hook changes to prohibited species interactions and fishery yields; and

• Examine the size distribution of sandbar and other sharks captured including in the Mid-Atlantic shark time/area closure off the coast of North Carolina from January 1 through July 31.

Selection Criteria

NMFS will only accept shark research fishery permit applications from commercial shark fishermen who hold a current Atlantic shark Directed or Incidental limited access permit. If NMFS receives a large number of applications, NMFS will give priority to Directed limited access permit holders to ensure that shark research fishery participants land an appropriate number of sharks to meet the objectives.

The shark research fishery permit application includes, but is not limited to, a request for the following information:

• Type of commercial shark permit possessed;

• Past participation and availability in the commercial shark fishery (not including sharks caught for display);

• Past and present availability to participate in the shark research fishery year-round;

• Ability to fish in the regions and seasons requested;

• Ability to attend necessary meetings regarding the objectives and research protocols of the shark research fishery; and

• Ability to carry out the 2026 shark research fishery objectives of the Agency.

NMFS will give preference to those applicants who are willing and available to fish year-round and who affirmatively state that they intend to do so, to ensure the timely and accurate data collection NMFS needs to meet this year's shark research fishery objectives. NMFS will not consider an applicant who has been charged criminally or civilly (e.g., issued a Notice of Violation and Assessment (NOVA) or Notice of Permit Sanction) for any HMS-related violation for participation in the shark research fishery. In addition, NMFS will not consider applicants who were selected to carry an observer in the previous 2 years for any HMS fishery but failed to contact NMFS to arrange the placement of an observer or failed to comply with any other observer regulations per § 635.7. NMFS will make exceptions for vessels that were selected for HMS observer coverage but did not fish in the quarter when selected and thus did not require an observer. NMFS will not consider applicants who do not possess a valid U.S. Coast Guard safety inspection decal when they submit their application. Applicants who have been non-compliant with any of the HMS observer program regulations in the previous 2 years, as described above, may be eligible for future participation in the shark research fishery by demonstrating 2 subsequent years of compliance with observer regulations at § 635.7.

Selection Process

The HMS Management Division will review all applications received by the deadline (see DATES) and develop a list of qualified applicants (i.e., the application is complete and the applicant meets the selection criteria listed above) for participation in the 2026 shark research fishery. The HMS Management Division will provide the list of qualified applicants, without identifying information, to the SEFSC. The SEFSC will then evaluate the list of applicants and, based on the temporal and spatial needs of the objectives, the availability of observers, the availability of applicants, and the available quota for a given year, will select applicants to conduct the prescribed research as part of the shark research fishery. If NMFS determines that a public meeting is necessary, NMFS will announce details of a public selection meeting in a subsequent Federal Register notice.

Once the selection process is complete, NMFS will notify the selected applicants and issue the shark research fishery permits. The shark research fishery permits will be valid through December 31, 2026, unless otherwise specified. If needed, NMFS will arrange a captain's meeting with the shark research fishery participants to discuss the objectives and protocols. In the past, NMFS held mandatory captain's meetings before placing observers on vessels, particularly if there are participants who have not participated in recent years or if there are changes in the permit terms and conditions from previous years. NMFS did not hold a captain's meeting in 2025. Once the fishery starts, shark research fishery participants must contact NMFS or the NMFS-designee to arrange the placement of a NMFS-approved observer for each shark research trip. Selected applicants must allow observers the opportunity to perform their duties and assist observers as necessary.

A shark research fishery permit will only be valid for the vessel, owner(s), and terms and conditions listed on the permit, and, thus, cannot be transferred to another vessel or owner(s). Shark research fishery participants must carry a NMFS-approved observer on shark research fishery trips. However, issuance of a shark research fishery permit does not guarantee that the permit holder will be assigned a NMFS-approved observer on any particular trip. Rather, issuance indicates that a vessel may be issued a NMFS-approved observer for a particular trip, and on such trips, may be allowed to harvest Atlantic sharks, including sandbar sharks, in excess of the retention limits described in § 635.24(a). Applicable retention limits will be based on available quota, number of vessels participating in the 2026 shark research fishery, NMFS' shark research fishery objectives, the extent of other restrictions placed on the vessel, and may vary by vessel and/or location. When not operating under the auspices of the shark research fishery, the vessel would still be able to land other shark species subject to existing retention limits on trips without a NMFS-approved observer.

NMFS annually invites commercial shark limited access permit holders (Directed and Incidental) to submit an application to participate in the shark research fishery (see ADDRESSES). Final decisions on the issuance of a shark research fishery permit will depend on the submission of all required information by the deadline (see DATES), and NMFS' review of applicant information as outlined above. The 2026 shark research fishery will start after the commercial shark fishery opens on January 1, 2026 under base quotas and default retention limits, unless otherwise published in the Federal Register.

Authority: 16 U.S.C. 971 et seq. and 16 U.S.C. 1801 et seq.

Dated: December 10, 2025.
Kelly Denit,
Director, Office of Sustainable Fisheries, National Marine Fisheries Service.

[FR Doc. 2025-22758 Filed 12-12-25; 8:45 am]

BILLING CODE 3510-22-P